DEPARTMENT OF ENERGY

Federal Energy Regulatory Commission

[Project No. 2662-037]

FirstLight CT Hydro LLC; Notice of Application Accepted for Filing and Soliciting Comments, Motions To Intervene, and Protests

Take notice that the following hydroelectric application has been filed with the Commission and is available for public inspection:

a. Application Type: Non-capacity amendment of license for project boundary.

b. Project No: 2662-037.

c. Date Filed: March 4, 2021, as supplemented on September 8 and December 3, 2021.

d. Applicant: FirstLight CT Hydro LLC.

e. Name of Project: Scotland Hydroelectric Project.

f. Location: The Scotland Project is located on the Shetucket River, in Windham County, Connecticut.

g. Filed Pursuant to: Federal Power Act, 16 U.S.C. 791a-825r.

h. Applicant Contact: Alan Douglass, Regulatory Compliance Manager, (413) 659-4416, alan.douglass@firstlightpower.com.

i. FERC Contact: Christopher Chaney, (202) 502-6778, christopher.chaney@ferc.gov.

j. Deadline for filing comments, motions to intervene, and protests: February 3, 2022.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2662-037. Comments emailed to Commission staff are not considered part of the Commission record.

k. Description of Request: On November 21, 2013, the Commission issued a new license for the Scotland Project with the boundary around the project reservoir at a contour elevation of 127 feet USGS datum. The approved boundary line is shown on the project's current Exhibit G (project boundary) drawings. The licensee seeks Commission approval of revised Exhibit G drawings that show a modified project boundary, based on improvements to the project's survey and property rights information. The modified boundary would remain at the 127-foot contour around the reservoir; however, the more accurate boundary line would enclose either more or less lands in certain areas to better follow the contour. The licensee also proposes boundary revisions near the dam and powerhouse to ensure all project facilities (e.g., fish passage, access road, switchyard, etc.) are fully enclosed within the boundary. The revised exhibit drawings do not modify the licensee's property rights under the project license.

The Commission's Rules of Practice and Procedure require all intervenors filing documents with the Commission to serve a copy of that document on each person whose name appears on the official service list for the project. Further, if an intervenor files comments or documents with the Commission relating to the merits of an issue that may affect the responsibilities of a particular resource agency, it must also serve a copy of the document on that resource agency.

l. Locations of the Application: The Commission provides all interested persons an opportunity to view and/or print the contents of this document via the internet through the Commission's website at http://www.ferc.gov/docs-filing/elibrary.asp. Enter the docket number (i.e., P-2662-037) in the docket number field to access the document. You may also register online at http://www.ferc.gov/docs-filing/esubscription.asp to be notified via email of new filings and issuances related to this or other pending projects. Copies of the filing can be obtained directly from the applicant. For assistance, call toll-free 1-866-208-3676 or email FERCOnlineSupport@ferc.gov. For TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: January 4, 2022.
Kimberly D. Bose,
Secretary.

[FR Doc. 2022-00186 Filed 1-7-22; 8:45 am]

BILLING CODE 6717-01-P